NATIONAL SCIENCE FOUNDATION

Designing a Digital Future: Federally Funded Research and Development in Networking and Information Technology

AGENCY: National Coordination Office (NCO) for the Networking and Information Technology Research and Development (NITRD) Program, National Science Foundation.

SUBJECT: Request for Information: Report “Designing a Digital Future: Federally Funded Research and Development in Networking and Information Technology”.

ACTION: Request for Information (RFI).

SUMMARY: Networking and Information Technology Research and Development (NITRD) Program; National Coordination Office (NCO); Request for Information (RFI) Regarding the President's Council of Advisors on Science and Technology (PCAST) Report Entitled “Designing a Digital Future: Federally Funded Research and Development in Networking and Information Technology”

This document is a request for comments on strategies for meeting the goals and recommendations of the recently released PCAST report on networking and information technology research and development (see http://www.whitehouse.gov/administration/eop/ostp/pcast).

DATES: Comment Date: To be assured consideration, comments must be received at one of the addresses provided below, no later than 5 p.m. on January 31, 2011.

ADDRESSES: You may submit comments by any of the following methods (please do not submit duplicate comments).

Electronically: You may submit electronic comments on this request for information at http://www.nitrd.gov/pcast-2010/report/nitrd-program/comments. Emailed comments will be accepted at pcast2010comments@nitrd.gov. Attachments should be in OpenOffice, Microsoft Word, or Adobe PDF formats.

Regular, Express, Overnight Mail, or Courier: National Coordination Office for the Networking and Information Technology Research and Development Program, 4201 Wilson Blvd, Suite II-405, Arlington, VA 22230. Please submit one original and two copies. Please also allow sufficient time for mailed comments to be received before the close of the comment period.

FOR FURTHER INFORMATION CONTACT: Joan Stanley, National Coordination Office for the Networking and Information Technology Research and Development Program, 703-292-4873.

SUPPLEMENTARY INFORMATION: Inspection of Public Comments: All comments received before the close of the comment period will be available for public inspection, including any personally identifiable or confidential business information that is included in a comment. Please do not include any information in your comment submission that you do not wish to share with the general public. Such information includes, but is not limited to: A person's Social Security number; date of birth; driver's license number; State identification number or foreign country equivalent; passport number; financial account number; credit or debit card number; or any business information that could be considered to be proprietary. We will post all comments received before the close of the comment period at http://www.nitrd.gov/pcast-2010/report/nitrd-program/comments. Follow the instructions on the Web site to view public comments.

I. Background

On December 16, 2010, the President's Council of Advisors on Science and Technology (PCAST) released an important new report entitled “Designing a Digital Future: Federally Funded Research and Development in Networking and Information Technology” (the PCAST Report). (The full report is available at http://www.whitehouse.gov/administration/eop/ostp/pcast and at the NITRD Web site http://www.nitrd.gov). PCAST is an advisory group of the nation's leading scientists and engineers who directly advise the President and the Executive Office of the President. PCAST makes policy recommendations in the many areas where understanding of science, technology, and innovation is key to strengthening our economy and forming policy that works for the American people. PCAST is administered by the Office of Science and Technology Policy (OSTP). NITRD seeks public comment on how the PCAST report's recommendations may best be addressed.

II. Solicitation of Comments

NITRD seeks comment on the questions below. Comments on other aspects of the PCAST report are also welcome.

1. The PCAST report calls for national, long‐term, multi‐agency research initiatives on networking and information technologies (NIT) for the health, energy, transportation, and cyberinfrastructure sectors.

a. What are the most important NIT R&D challenges in each of these sectors?

b. What NIT R&D challenges are common across all of these sectors?

c. What emerging innovations in these or other sectors could be used to achieve a leap forward in progress?

2. The PCAST report recommends collaborative programs to support high risk/high reward R&D in the following frontier areas: Fundamentals of privacy protection and protected disclosure of confidential data; human‐machine and social collaboration and problem‐solving in networked, on‐line environments where large numbers of people participate in common activities; data collection, storage, management, and automated large‐scale data analysis; and advanced domain‐specific sensors, integration of NIT into physical systems, and innovative robotics.

a. What are some high-risk concepts that carry the potential for fundamentally changing the landscape in these frontier areas?

b. What limitations in NIT hold back progress today in these frontier areas? How might these limitations be overcome?

c. What efforts currently underway in these areas could be accelerated through collaboration, cooperation, and coordination?

3. The PCAST report calls for fundamental changes in K‐12 STEM education in the United States, including the incorporation of computer science (CS) as an essential component.

a. What CS concepts and approaches are most important to effective elementary, secondary, and post-secondary curricula? Among these, which are commonly found in curricula today? Which are missing?

b. What do teachers need (including preparation and training, tools, and resources) to be able to deliver CS education effectively?

c. What factors are important in promoting student interest in CS?

Dated: December 17, 2010.
Suzanne H. Plimpton,
Reports Clearance Officer, National Science Foundation.

[FR Doc. 2010-32279 Filed 12-22-10; 8:45 am]

BILLING CODE 7555-01-P